DEPARTMENT OF COMMERCE

International Trade Administration

(A-533-820)

Certain Hot-Rolled Carbon Steel Flat Products from India; Notice of Rescission of Antidumping Duty Administrative Review

AGENCY: Import Administration, International Trade Administration, Department of Commerce.

ACTION: Notice of Rescission of Antidumping Duty Administrative Review.

SUMMARY: On January 22, 2004, the Department of Commerce (the Department) published in the Federal Register a notice announcing the initiation of an administrative review of the antidumping duty order on certain hot-rolled carbon steel flat products (HRS or subject merchandise) from India covering Essar Steel Ltd., (Essar) and the period December 1, 2002, through November 30, 2003. We are rescinding this review as a result of the absence of entries into the United States of subject merchandise from Essar during the period of review (POR).

EFFECTIVE DATE: July 19, 2004.

FOR FURTHER INFORMATION CONTACT: Kevin Williams or Howard Smith, Office IV, Import Administration, International Trade Administration, U.S. Department of Commerce, 14th Street and Constitution Avenue, NW, Washington, DC 20230; telephone (202) 482-2371 or (202) 482-5193, respectively.

SUPPLEMENTARY INFORMATION:

Background

On December 3, 2001, the Department published in the Federal Register the antidumping duty order on HRS from India. See Notice of Amended Final Antidumping Duty Determination of Sales at Less Than Fair Value and Antidumping Duty Order: Certain Hot-Rolled Carbon Steel Flat Products from India, 66 FR 60194 (December 3, 2001). On December 2, 2003, the Department published in the Federal Register a notice of “Opportunity to Request Administrative Review” of the antidumping duty order on HRS from India. See Antidumping or Countervailing Duty Order, Finding, or Suspended Investigation; Opportunity to Request Administrative Review, 68 FR 67401 (December 2, 2003). On December 30 and 31, 2003, petitioners, Nucor Corporation and U.S. Steel Corporation, respectively, requested an administrative review of the antidumping duty order on HRS from India covering Essar. The Department initiated this review on January 22, 2004. See Initiation of Antidumping and Countervailing Duty Administrative Reviews and Request for Revocation in Part, 69 FR 3117 (January 22, 2004). On February 10, 2004, Essar filed a letter certifying to the Department that it did not export any subject merchandise that was entered for consumption into the United States during the POR. The Department confirmed through U.S. Customs and Border Protection (CBP) data that there were no entries of subject merchandise from Essar during the POR. Moreover, the Department invited petitioners to comment on our intent to rescind this review with respect to Essar. We received no comments. See the May 17, 2004, memorandum to the file regarding “Intent to Rescind the Antidumping Duty Administrative Review on Certain Hot-Rolled Carbon Steel Flat Products From India.”

Rescission of Review

Because the only firm for which a review was requested made no entries into the customs territory of the United States during the POR, the Department is rescinding this review. This determination is consistent with the Department's practice and 19 C.F.R. § 351.213(d)(3). As such, we will issue appropriate assessment instructions directly to CBP.

Notification to Interested Parties

This notice also serves as a reminder to parties subject to administrative protective order (APO) of their responsibility concerning the disposition of proprietary information disclosed under APO in accordance with 19 C.F.R. § 351.305(a)(3). Timely written notification of the return or destruction of APO materials or conversion to judicial protective order is hereby requested. Failure to comply with the regulations and the terms of an APO is a sanctionable violation.

This notice is published in accordance with section 777(i) of the Tariff Act of 1930, as amended and 19 C.F.R. § 351.213(d)(4).

Dated: July 12, 2004.
Jeffrey A. May,
Deputy Assistant Secretary for Import Administration, Group I.

[FR Doc. 04-16362 Filed 7-16-04; 8:45 am]

BILLING CODE 3510-DS-S